NATIONAL AERONAUTICS AND SPACE ADMINISTRATION

[Notice 00-057]

Notice of Agency Report Forms Under OMB Review

AGENCY: National Aeronautics and Space Administration (NASA).

SUMMARY: The National Aeronautics and Space Administration, as part of its continuing effort to reduce paperwork and respondent burden, invites the general public and other Federal agencies to take this opportunity to comment on proposed and/or continuing information collections, as required by the Paperwork Reduction Act of 1995 (Public Law 104-13, 44 U.S.C. 3506(c)(2)(A)). The reports will be utilized by the Office of Small and Disadvantaged Business Utilization as a method for determining if developmental assistance provided to small disadvantaged businesses by prime contractor's performance meets the standards established in NASA policy. The Agency's ability to manage the program effectively would be greatly diminished without receiving the described reports, which are part of the ongoing performance fee evaluation process.

DATES: All comments should be submitted on or before July 30, 2000.

ADDRESSES: All comments should be addressed to Mr. Richard Kall, Code HK, National Aeronautics and Space Administration, Washington, DC 20546-0001.

FOR FURTHER INFORMATION CONTACT: Ms. Carmela Simonson, NASA Reports Officer, (202) 358-1223.

Title: Small Business and Small Disadvantaged Business Concerns.

OMB Number: 2700-0078.

Type of review: Extension.

Need and Uses: Reports are required to monitor Mentor-Protege performance and progress according to the Mentor-Protege Agreement. Reports are internal control to determine if Agency objectives are met.

Affected Public: Business or other for-profit.

Number of Respondents: 48.

Responses Per Respondent: 2.

Annual Responses: 96.

Hours Per Request: 1½.

Annual Burden Hours: 140.

Frequency of Report: Semi-annually.

David B. Nelson,
Deputy Chief Information Officer, Office of the Administrator.

[FR Doc. 00-13353 Filed 5-26-00; 8:45 am]

BILLING CODE 7510-01-P